STATE JUSTICE INSTITUTE

SJI Board of Directors Meeting, Notice

AGENCY: State Justice Institute.

ACTION: Notice of meeting.

SUMMARY: The SJI Board of Directors will be meeting on Monday, December 5, 2016 at 11:00 a.m. The meeting will be held at the Belmond Hotel in Charleston, South Carolina. The purpose of this meeting is to consider grant applications for the 1st quarter of FY 2017, and other business. All portions of this meeting are open to the public.

ADDRESSES: Belmond Hotel, 205 Meeting Street, Charleston, South Carolina, 29401.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2016-27834 Filed 11-17-16; 8:45 am]

BILLING CODE P